DEPARTMENT OF TRANSPORTATION

Federal Aviation Administration

Notice of Passenger Facility Charge (PFC) Approvals and Disapprovals

AGENCY: Federal Aviation Administration (FAA), DOT.

ACTION: Monthly Notice of PFC Approvals and Disapprovals. In March 2012, there were four applications approved. This notice also includes information on three applications, approved in February 2012, inadvertently left off the February 2012 notice. Additionally, four approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: Pitt County—City of Greenville Airport Authority, Greenville, North Carolina.

Application Number: 12-05-U-00-PGV.

Application Type: Use PFC revenue.

PFC Level: $4.50.

Total PFC Revenue Approved for Use in this Decision: $36,538.

Charge Effective Date: February 1, 2009.

Charge Expiration Date: September 1, 2010.

Class of Air Carriers Not Required To Collect PFC's: No change from previous decision.

Brief Description of Project Approved for Use: Jetway loading bridge.

Decision Date: February 7, 2012.

FOR FURTHER INFORMATION CONTACT: Robert Rau, Atlanta Airports District Office, (404) 305-7005.

Public Agency: City of Bangor, Maine.

Kevin Application Number: 12-03-C-00-BGR.

Application Type: Impose and use a PFC.

PFC Level: $4.50.

Total PFC Revenue Approved in this Decision: $2,576,497.

Earliest Charge Effective Date: May 1, 2012.

Estimated Charge Expiration Date: June 1, 2015.

Class of Air Carriers Not Required to Collect PFC's: On demand air taxi commercial operators.

Determination: Approved. Based on information contained in the public agency's application, the FAA has determined that the approved class accounts for less than 1 percent of the total annual enplanements at Bangor International Airport.

Brief Description of Projects Approved for Collection and USE:

Electrical improvement.

Terminal building renovations, phase I.

PFC application costs.

Decision Date: February 27, 2012.

FOR FURTHER INFORMATION CONTACT: Priscilla Scott, New England Region Airports Division, (781) 238-7614.

Public Agency: City of Rock Springs/County of Sweetwater, Rock Springs, Wyoming.

Application Number: 12-04-C-00-RKS.

Application Type: Impose and use a PFC.

PFC Level: $4.50.

Total PFC Revenue Approved in this Decision: $461,933.

Earliest Charge Effective Date: September 1, 2012.

Estimated Charge Expiration Date: December 1, 2017.

Class of Air Carriers Not Required to Collect PFC's: None.

Brief Description of Projects Approved for Collection and Use: Rehabilitate terminal access road.

Acquire aircraft rescue and firefighting equipment.

Rehabilitate non-revenue parking lot.

Rehabilitate runway 3/21.

Acquire snow removal equipment.

Design snow removal equipment building.

Seal coat airfield.

Install terminal fire alarm system.

Construct snow removal equipment building.

Construct service road.

Conduct new taxiway environmental assessment.

Acquire snow removal equipment.

Renovate terminal building.

Decision Date: February 27, 2012.

FOR FURTHER INFORMATION CONTACT: Jesse Lyman, Denver Airports District Office, (303) 342-1262.

Public Agency: County of Beaufort, Beaufort, South Carolina.

Application Number: 12-04-C-00-HXD.

Application Type: Impose and use a PFC.

PFC Level: $4.50.

Total PFC Revenue Approved in this Decision: $2,619,447.

Earliest Charge Effective Date: May 1, 2012.

Estimated Charge Expiration Date: July 1, 2022.

Class of Air Carriers Not Required to Collect PFC's: Air taxi/commercial operators filing FAA Form 1800-31.

Determination: Approved. Based on information contained in the public agency's application, the FAA has determined that the approved class accounts for less than 1 percent of the total annual enplanements at Hilton Head Island Airport.

Brief Description of Projects Approved for Collection:

Land acquisition for airfield deficiency correction.

Airfield deficiency correction.

Runway 3 engineered materials arresting system.

Land acquisition for runway extension and road relocation.

700-foot runway extension (design and construction).

Runway safety area (east-west) drainage.

Transitional surface obstruction removal (trees).

Brief Description of Projects Approved for Collection and Use:

Air traffic control tower land acquisition.

Air traffic control tower construction.

Runway 03/21 widening.

New aircraft rescue and firefighting vehicle.

New aircraft rescue and firefighting building.

Update airport master plan.

Runway 03 tree removal.

Runway 21 tree obstruction removal (on and off airport).

Commercial service terminal expansion.

Runway extension benefit cost analysis/environmental documentation.

Runway 03 obstruction removal (trees).

PFC preparation.

Brief Description of Disapproved Projects:

400-foot runway extension (design and construction).

Runway 21 engineered materials arresting system.

Relocation of Beach City Road (design and construction).

Determination: These projects do not meet the requirements of §§ 158.15(c) and 158.30(b)(3)(iii). The public agency did not provide adequate justification information.

Decision Date: March 7, 2012.

FOR FURTHER INFORMATION CONTACT: Anna Lynch, Atlanta Airports District Office, (404) 305-7146.

Public Agency: City of Manhattan, Kansas.

Application Number: 12-03-C-00-MHK.

Application Type: Impose and use a PFC.

PFC Level: $4.50.

Total PFC Revenue Approved in this Decision: $524,222.

Earliest Charge Effective Date: June 1, 2018.

Estimated Charge Expiration Date: June 1, 2020.

Class of Air Carriers Not Required to Collect PFC's: Non-scheduled/on-demand air taxi operators filing FAA Form 1800-31.

Determination: Approved. Based on information contained in the public agency's application, the FAA has determined that the approved class accounts for less than 1 percent of the total annual enplanements at Manhattan Regional Airport.

Brief Description of Projects Approved for Collection and Use:

Runway 3/21 remarking.

Master plan update.

Part 150 noise study.

2007 land acquisition.

Runway 3/21 and taxiway A extension; runway 13/31 reconstruction and

extension.

Navigational aid relocation.

Shift runway 3/21, phase 3.

Shift runway 3/21, phase 4.

Perimeter fencing.

Airport passenger terminal study.

Decision Date: March 8, 2012.

FOR FURTHER INFORMATION CONTACT: Mark Schenkelberg, Central Region Airports Division, (816) 329-2645.

Public Agency: City of Colorado Springs, Colorado.

Application Number: 12-19-C-00-COS.

Application Type: Impose and use a PFC.

PFC Level: $3.00.

Total PFC Revenue Approved in this Decision: $728,878.

Earliest Charge Effective Date: April 1, 2015.

Estimated Charge Expiration Date: December 1, 2015.

Class of Air Carriers Not Required to Collect PFC's: None.

Brief Description of Projects Approved for Collection and Use:

Install primary crash network.

Security enhancements—access control 1.

Acquire computer based interactive training system.

Security enhancements—access control 2.

Brief Description of Project Partially Approved for Collection and Use: Construct integrated operations command center.

Determination: The FAA finds that the space for a training room and records retention are not required for emergency response purposes and so those componenets are not PFC-eligible.

Decision Date: March 15, 2012.

FOR FURTHER INFORMATION CONTACT: Jesse Lyman, Denver Airports District Office, (303) 342-1262.

Public Agency: Massachusetts Port Authority, Boston, Massachusetts.

Application Number: 12-07-U-00-BO5.

Application Type: Use PFC revenue.

PFC Level: $4.50.

Total PFC Revenue Approved for Use in this Decision: $18,278,000.

Earliest Charge Effective Date: August 1, 2016.

Estimated Charge Expiration Date: December 1, 2023.

Class of Air Carriers Not Required to Collect PFC's: No change from previous decision.

Brief Description of Project Approved for Use: Development of runway safety area for runway 33L.

Decision Date: March 20, 2012.

FOR FURTHER INFORMATION CONTACT: Priscilla Scott, New England Region Airports Division, (781) 238-7614.

Amendments to PFC Approvals
Amendment No. city, state | Amendment approved date | Original approved net PFC revenue | Amended approved net PFC revenue | Original estimated charge exp. date | Amended estimated charge exp. date
08-06-C-01-LAW Lawton, OK | 03/13/12 | $917,000 | $1,075,784 | 11/01/13 | 11/01/13
09-07-C-01-GRK Killeen, TX. | 03/13/12 | 2,300,000 | 2,565,711 | 12/01/12 | 01/01/13
09-08-C-01-ALO Waterloo, IA. | 03/23/12 | 201,930 | 262,180 | 02/01/13 | 11/01/13
11-10-C-01-ALO Waterloo, IA. | 03/23/12 | 97,420 | 133,685 | 06/01/14 | 08/01/15

Issued in Washington, DC on April 6, 2012.
Joe Hebert,
Manager, Financial Analysis and Passenger Facility Charge Branch.

[FR Doc. 2012-8977 Filed 4-16-12; 8:45 am]

BILLING CODE 4910-13-M